DEPARTMENT OF THE INTERIOR

Bureau of Land Management

[MT-925-2810-XU-241E]

Notice of Rescindment of Special Fire Restrictions and Closures in the South Dakota Field Office, SD

AGENCY: Bureau of Land Management, Interior.

ACTION: Notice.

SUMMARY: Pursuant to 43 Code of Federal Regulations 9212.2, the prohibitions listed in Order No. MT-00-08 (Fall River, Custer, Pennington, Lawrence, Butte, Harding, Meade, Perkins, and Stanley Counties), applicable to Bureau of Land Management lands administered by the South Dakota Field Office, dated August 30, 2000, will be terminated at 12:01 a.m., Friday, October 6, 2000.

DATES: Restrictions are terminated at 12:01 a.m., on Friday, October 6, 2000.

ADDRESSES: Comments should be sent to BLM Montana State Director, Attention: Pat Mullaney, P.O. Box 36800, Billings, Montana 59107-6800.

FOR FURTHER INFORMATION CONTACT: Pat Mullaney, Fire Management Specialist, 406-896-2915.

Dated: October 5, 2000.
Roberta A. Moltzen,
Acting State Director.

[FR Doc. 00-26300 Filed 10-10-00; 10:30 am]

BILLING CODE 4310-$$-P